DEPARTMENT OF COMMERCE

Census Bureau

2002 Survey of Business Owners and Self-Employed Persons (SBO)

ACTION: Proposed collection; comment request.

SUMMARY: The Department of Commerce, as part of its continuing effort to reduce paperwork and respondent burden, invites the general public and other Federal agencies to comment on proposed and/or continuing information collection, as required by the Paperwork Reduction Act of 1995, Public Law 104-13 (44 U.S.C. 3506(c)(2)(A)).

DATES: Written comments must be submitted on or before August 19, 2002.

ADDRESSES: Direct all written comments to Madeleine Clayton, Departmental Paperwork Clearance Officer, Department of Commerce, Room 6608, 14th and Constitution Avenue, NW., Washington, DC 20230, or via e-mail at MClayton@doc.gov.

FOR FURTHER INFORMATION CONTACT: Requests for additional information or copies of the information collection instrument(s) and instructions should be directed to Valerie Strang, (301) 457-3316, Bureau of the Census, CSD, Room 1183-3, Washington, DC 20233-6400 or via e-mail at Valerie.Cherry.Strang@census.gov.

SUPPLEMENTARY INFORMATION

I. Abstract

The Census Bureau plans to conduct the 2002 Survey of Business Owners and Self-Employed Persons (SBO), previously known as the Survey of Minority-Owned Business Enterprises and the Survey of Women-Owned Business Enterprises (SMOBE/SWOBE). This survey will provide the only comprehensive, regularly collected source of information on selected economic and demographic characteristics for businesses and business owners by race, ethnicity, and gender. The survey is conducted as part of the economic census program which is required by law to be taken every five years under Title 13 of the United States Code, Sections 131, 193, and 224.

Businesses will be eligible to be selected for this survey if they reported any business activity on any one of the following Internal Revenue Service tax forms: 1040 (Schedule C), “Profit or Loss from Business” (Sole Proprietorship); 1065, “U.S. Partnership Return of Income”; or any one of the 1120 corporate tax forms.

The following changes have been made to the 2002 SBO:

• The questions about race and ethnicity have been modified to meet OMB guidelines to allow respondents the opportunity to select more than one race category, and the “Some other race” classification has been omitted. Also, per the OMB guidelines, the Hispanic origin question is placed before the race question.

• Background research suggested difficulty with aggregate reporting of race and ethnicity combinations for multiple owners. Thus, the survey adopts person-level reporting for a variety of characteristics for up to three persons owning majority interest in the business. Based on summaries from the 1997 SMOBE/SWOBE showing 75 percent of businesses surveyed had three or fewer owners, the SBO-1 questionnaire will capture information for, at most, three owners of firms that are not sole proprietorships. Sole proprietors will be mailed the SBO-2 questionnaire, a shorter version of the SBO-1 form, which will capture information for up to two owners.

• Several new questions have been borrowed from the former Characteristics of Business Owners survey, which has not been funded for the upcoming economic census. These items will fill the void for many data users, including the Small Business Administration and other interested associations. Some of these new questions have been incorporated into the individual owner questions, while others are asked about the entire business.

The owner questions ask for age, education, if the owner is disabled, the average number of hours spent managing or working in the business, and whether the business provided the owner's primary source of income. The business questions ask for the year the earliest owner established, purchased, or acquired the business; whether the business was home-based or family-owned; whether the business operated as a franchise; which types of customers accounted for 10 percent or more of the business's sales; and if the business obtained financing for expansion, capital improvements or start-up during 2002.

• A new question has been added to increase our understanding of businesses' use of alternative employment arrangements.

To alleviate reporting problems encountered on the 1997 SMOBE/SWOBE and to test the aforementioned changes, a pretest of the proposed 2002 SBO form has been conducted using principles of questionnaire design and methodological research. Cognitive interviews were completed with more than sixty respondents in two rounds of testing of the early versions of the SBO form. Then a voluntary mailout/mailback survey of the revised form was conducted in February 2002, which canvassed an additional 6,629 respondents. After two mail report form follow-ups, 37 percent of the pretest forms were returned. The form underwent further review and analysis and additional revisions were made in an effort to reflect, where feasible, comments received from the pretest respondents. This resulted in the final versions of 2002 SBO-1 and SBO-2 questionnaires to be submitted to OMB.

II. Method of Collection

The Census Bureau will use a mailout/mailback survey form to collect the data. The questionnaires will be mailed from our National Processing Center in Jeffersonville, Indiana. Two mail report form follow-ups will be conducted at approximately one-month intervals. Upon closeout of the survey, the response data will be edited and reviewed.

III. Data

OMB Number: Not available.

Form Number: SBO-1, “Survey of Business Owners and Self-Employed Persons” (for firms other than sole proprietorships) and SBO-2, “Survey of Business Owners and Self-Employed Persons” (for sole proprietorships).

Type of Review: Regular review.

Affected Public: Large and small businesses, other for-profit and nonprofit organizations, and publicly held corporations.

Estimated Number of Respondents: 2.5 million.

Estimated Time Per Response: 10 minutes.

Estimated Total Annual Burden Hours: 416,666.

Estimated Total Annual Cost: $8,712,486.

Respondent's Obligation: Mandatory.

Legal Authority: Title 13, United States Code, Sections 131, 193, and 224.

IV. Requests for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 13, 2002.
Madeleine Clayton,
Departmental Paperwork Clearance Officer, Office of the Chief Information Officer.

[FR Doc. 02-15375 Filed 6-18-02; 8:45 am]

BILLING CODE 3510-07-P